DEPARTMENT OF HOMELAND SECURITY

[Docket No. DHS-2018-0008]

Privacy Act of 1974; System of Records

AGENCY: Department of Homeland Security.

ACTION: Notice of modified system of records.

SUMMARY: In accordance with the Privacy Act of 1974, the Department of Homeland Security (DHS) proposes to modify and reissue a current DHS system of records titled, “Department of Homeland Security/ALL-011 Biographies and Awards.” This system of records allows DHS to collect and maintain biographical information about current and former DHS employees, contractors, and other non-DHS individuals that attend Departmental meetings or receive awards. Information pertaining to Departmental performance-based award recipients who are DHS employees is covered under “U.S. Office of Personnel Management/GOVT-2 Employee Performance File System Records”.

DATES: Submit comments on or before May 7, 2018. This modified system will be effective upon publication. New or modified routine uses will become effective May 7, 2018.

ADDRESSES: You may submit comments, identified by docket number DHS-2018-0008 by one of the following methods:

• Federal e-Rulemaking Portal: http://www.regulations.gov. Follow the instructions for submitting comments.

• Fax: 202-343-4010.

• Mail: Philip S. Kaplan, Chief Privacy Officer, Privacy Office, Department of Homeland Security, Washington, DC 20528-0655.

Instructions: All submissions received must include the agency name and docket number DHS-2018-0008. All comments received will be posted without change to http://www.regulations.gov, including any personal information provided.

Docket: For access to the docket to read background documents or comments received, go to http://www.regulations.gov.

FOR FURTHER INFORMATION CONTACT: For general and privacy questions, please contact: Philip S. Kaplan, privacy@hq.dhs.gov, (202) 343-1717, Chief Privacy Officer, Privacy Office, Department of Homeland Security, Washington, DC 20528-0655.

SUPPLEMENTARY INFORMATION: DHS is modifying and reissuing this system of records notice (SORN) to (1) expand the purpose to include reviewing and distributing biographical information on DHS award recipients and attendees of conferences or other public meetings; (2) expand the categories of individuals to include all DHS employees and contractors as well as members of the public receiving awards from DHS or attending conferences or meetings; (3) expand the categories of records to include individual contact information, nomination information, and identity documentation; (4) modify routine use (E) and add routine use (F) to comply with Office of Management and Budget (OMB) guidance pertaining to data breach procedures; (5) modify routine use (I) to expand the language to include awardee information disseminated to the public; and (6) add a new routine use (J) to encompass the release of information to assist in employment decisions or to issue clearances, licenses, or other benefits with which the information may be relevant. Finally, the Department has updated the retention schedule for records contained in this system. This notice also includes non-substantive changes to simplify the formatting and text of the previous published notice. This modified system will be included in DHS's inventory of record systems.

I. Background

DHS is modifying and reissuing this SORN to expand the purpose, categories of individuals, and categories of records, and to update the retention schedule. DHS is also expanding and adding to the routine uses, as well as making non-substantive changes to the text and formatting of this SORN to align with previously published DHS SORNs.

DHS is expanding the purpose of this system beyond collecting biographic and award information on DHS employees, DHS contractors, and other non-DHS individuals for disclosure to the media and public. DHS may use biographic information submitted by these individuals when considering or publicly recognizing an individual for a DHS award. Biographic information collected may also be used as material in public meetings and conferences held for or by DHS employees and contractors. In addition, biographic information will also be collected voluntarily from non-DHS individuals to aid DHS in preparing for and conducting meetings with DHS and contractor employees.

DHS is modifying this SORN to expand and clarify the categories of records covered by this system. DHS may collect contact information and the professional background, education, qualifications, and academic achievements of non-DHS individuals who are award nominees or recipients and DHS employees or contractors nominated or awarded non-performance-based awards. Individuals may opt to include information beyond professional qualifications, such as hobbies and personal interests. All biographic information is submitted directly from the individual or is publicly available and confirmed by the individual. This system of records does not include information and records on Departmental performance-based award recipients who are DHS employees and contractors that are covered for separate purposes elsewhere in the Federal Register under “OPM/GOVT-2 Employee Performance File System Records,” (71 FR 35347 (June 19, 2006); 80 FR 74815 (Nov. 30, 2015)).

DHS is expanding and clarifying the categories of individuals of this system to include non-DHS individuals, DHS employees, and contractors who have provided biographic information for public meetings or conferences.

DHS is modifying routine use (E) and adding routine use (F) to conform to OMB Memorandum M-17-12 “Preparing for and Responding to a Breach of Personally Identifiable Information” (January 3, 2017). DHS is expanding the language of routine use (I) (disclosures to audiences) to include awardee information disseminated on public-facing websites, conferences, press releases, or other media. DHS is adding new routine use (J) to permit disclosures to an appropriate Federal, state, local, tribal, foreign, or international agency, if the information is relevant and necessary to a requesting agency's decision concerning the hiring or retention of an individual, or issuance of a security clearance, license, contract, grant, delegation or designation of authority, or other benefit, or if the information is relevant and necessary to a DHS decision concerning the hiring or retention of an employee, the issuance of a security clearance, the reporting of an investigation of an employee, the letting of a contract, or the issuance of a license, grant, delegation or designation of authority, or other benefit and disclosure is appropriate to the proper performance of the official duties of the person making the request. All routine uses after routine use (F) have been renumbered to account for the additional routine use. Lastly, DHS is making non-substantive changes to the text and formatting of this SORN to align with previously published DHS SORNs.

Consistent with DHS's information sharing mission, information covered by DHS/ALL-011 Department of Homeland Security Biographies and Awards system of records may be shared with other DHS Components that have a need to know the information to carry out their national security, law enforcement, immigration, intelligence, or other homeland security functions. In addition, DHS may share information with appropriate Federal, state, local, tribal, territorial, foreign, or international government agencies consistent with the routine uses set forth in this SORN.

This modified system will be included in DHS's inventory of record systems.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides a covered person with a statutory right to make requests for access and amendment to covered records, as defined by the JRA, along with judicial review for denials of such requests. In addition, the JRA prohibits disclosures of covered records, except as otherwise permitted by the Privacy Act.

Below is the description of the DHS/ALL-011 Biographies and Awards System of Records.

In accordance with 5 U.S.C. 552a(r), DHS has provided a report of this system of records to the OMB and to Congress.

SYSTEM NAME AND NUMBER

Department of Homeland Security/ALL-011 Biographies and Awards.

SECURITY CLASSIFICATION:

Unclassified.

SYSTEM LOCATION:

Records are maintained at several Headquarters locations and in Component offices of the Department of Homeland Security, in both Washington, DC and field locations.

SYSTEM MANAGER(S):

For DHS Headquarters Components, the System Manager is the Deputy Chief Freedom of Information Act (FOIA) Officer, Department of Homeland Security, Washington, DC 20528. For Components of DHS, the System Manager can be found at http://www.dhs.gov/foia under “Contacts.”

AUTHORITY FOR MAINTENANCE OF THE SYSTEM:

5 U.S.C. 4502 et seq., 5 U.S.C. 301, 5 U.S.C. 4103, 44 U.S.C. 3101, Public Law 107-296, Executive Order (E.O.) 9830, and E.O. 12107.

PURPOSE(S) OF THE SYSTEM:

The purpose of this system is to (1) collect and use biographic information on professional background, education, qualifications, and academic achievements of DHS employees, DHS contractors, and non-DHS individuals as background information to consider and publicly recognize DHS awardees and nominees; (2) aid DHS in setting up and conducting meetings with DHS and contractor employees; and (3) create information materials for publication outside of the Department as part of public events, conferences, and meetings.

CATEGORIES OF INDIVIDUALS COVERED BY THE SYSTEM:

Categories of individuals within this system include:

1. Current and former DHS employees, contractors, and other non-DHS individuals who are award nominators, recipients, or nominees. This category of individuals does not include DHS employees who receive Departmental employment performance-based awards as that information is covered for the purposes pursuant to “OPM/GOVT-2 Employee Performance File System Records.”

2. Non-DHS individuals who attend meetings with DHS personnel who provide biographic information to aid DHS in setting up and conducting such meetings.

CATEGORIES OF RECORDS IN THE SYSTEM:

• Full name;

• Date of birth;

• Place of birth;

• Photo;

• Work history and experience;

• Education;

• Military experience, if applicable;

• Civic duties and previous awards;

• Immigration history, to include date of naturalization;

• Hometown;

• Hobbies and personal interests;

• Job title;

• Name and job title of Supervisor;

• Personal and/or Professional phone numbers;

• Personal and/or Professional email addresses;

• Personal and/or Professional addresses;

• Employee/Contractor identification or badge number;

• Identity documentation;

• Professional qualifications, beyond what is described in OPM-approved position description;

• Type of award for which received/nominated for (e.g., President, Secretary, or Component Leadership);

• Name of the nominating official;

• Nomination materials including a summary of outstanding accomplishments, distinguished service, or extraordinary valor to make him or her eligible for an award;

• Published factual account of the nominee's accomplishments; and

• Other information directly relevant to the award that may be collected and distributed to the public.

RECORD SOURCE CATEGORIES:

Records are obtained directly from DHS employees, contractors, and non-DHS individuals who have submitted biographies to DHS or have been selected or nominated for a DHS award; the nominating individual or organization; or other sources available to the general public.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other Federal agency conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another Federal agency or Federal entity, when DHS determines that information from this system of records is reasonably necessary and otherwise compatible with the purpose of collection to assist the recipient agency or entity in (1) responding to a suspected or confirmed breach or (2) preventing, minimizing, or remedying the risk of harm to individuals, the recipient agency or entity (including its information systems, programs, and operations), the Federal Government, or national security, resulting from a suspected or confirmed breach.

G. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

H. To unions recognized as exclusive bargaining representatives of the individual under the Civil Service Reform Act of 1978, 5 U.S.C. 7111 and 7114, the Merit Systems Protection Board, arbitrators, the Federal Labor Relations Authority, and other parties responsible for the administration of the Federal labor-management program for the purpose of processing any corrective actions, grievances, conducting administrative hearings or appeals, or if needed in the performance of other authorized duties.

I. To audiences attending a particular event, conference, or meeting when the biographies of speakers are used as background in introductions or other informational material, and to the public when used to recognize individuals for awards not covered pursuant to an OPM SORN or used to recognize non-DHS individuals.

J. To an appropriate Federal, state, local, tribal, foreign, or international agency, if the information is relevant and necessary to a requesting agency's decision concerning the hiring or retention of an individual, or issuance of a security clearance, license, contract, grant, delegation or designation of authority, or other benefit, or if the information is relevant and necessary to a DHS decision concerning the hiring or retention of an employee, the issuance of a security clearance, the reporting of an investigation of an employee, the letting of a contract, or the issuance of a license, grant, delegation or designation of authority, or other benefit and disclosure is appropriate to the proper performance of the official duties of the person making the request.

K. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute an unwarranted invasion of personal privacy.

POLICIES AND PRACTICES FOR STORAGE OF RECORDS:

DHS stores records in this system electronically or on paper in secure facilities in a locked drawer behind a locked door. The records may be stored on magnetic disc, tape, and digital media.

POLICIES AND PRACTICES FOR RETRIEVAL OF RECORDS:

DHS retrieves records by name, job title, date of naturalization, award title, and location where the individual resides or works.

POLICIES AND PRACTICES FOR RETENTION AND DISPOSAL OF RECORDS:

DHS retains and disposes of records in accordance with NARA General Records Schedule (GRS) 2.2, item 30. Employee awards files (excluding records relating to Department-level awards and awards for non-DHS individuals) will be destroyed when two years old or two years after award is approved or disapproved, whichever is later, but longer retention is authorized if required for a business use. Individual Components may develop separate retention schedules in consultation with NARA. Records pertaining to Department-level awards and all awards for non-DHS individuals must be scheduled by submitting an SF 115, Request for Records Disposition Authority, to NARA. Records pertaining to biographies for meetings and speaking engagements are retained and disposed of in accordance with NARA GRS 6.4, item 10. Records will be destroyed when three years old, or no longer needed, whichever is later.

ADMINISTRATIVE, TECHNICAL, AND PHYSICAL SAFEGUARDS:

DHS safeguards records in this system according to applicable rules and policies, including all applicable DHS automated systems security and access policies. DHS has imposed strict controls to minimize the risk of compromising the stored information. Access to the computer system containing the records in this system is limited to those individuals who have a need to know the information in furtherance of the performance of their official duties, and who have appropriate clearances or permissions.

RECORD ACCESS PROCEDURES:

Individuals seeking access to and notification of any record contained in this system of records, or seeking to contest its content, may submit a request in writing to the Chief Privacy Officer and Chief FOIA Officer, whose contact information can be found at http://www.dhs.gov/foia under “Contacts Information.” If an individual believes more than one component maintains Privacy Act records concerning him or her, the individual may submit the request to the Chief Privacy Officer and Chief FOIA Officer, Department of Homeland Security, Washington, DC 20528-0655. Even if neither the Privacy Act nor the JRA provide a right of access, certain records about a person may be available under FOIA.

When an individual is seeking records about himself or herself from this system of records or any other Departmental system of records, the individual's request must conform with the Privacy Act regulations set forth in 6 CFR part 5. The individual must first verify his/her identity, meaning that the individual must provide his/her full name, current address, and date and place of birth. The individual must sign the request, and the individual's signature must either be notarized or submitted under 28 U.S.C. 1746, a law that permits statements to be made under penalty of perjury as a substitute for notarization. While no specific form is required, an individual may obtain forms for this purpose from the Chief Privacy Officer and Chief FOIA Officer, http://www.dhs.gov/foia or 1-866-431-0486. In addition, the individual should:

• Explain why the individual believes the Department would have information on him/her;

• Identify which component(s) of the Department the individual believes may have the information about him/her;

• Specify when the individual believes the records would have been created; and

• Provide any other information that will help the FOIA staff determine which DHS component agency may have responsive records;

If an individual's request is seeking records pertaining to another living individual, the first individual must include a statement from the second individual certifying his/her agreement for the first individual to access his/her records. Without the above information, the component(s) may not be able to conduct an effective search, and the individual's request may be denied due to lack of specificity or lack of compliance with applicable regulations.

CONTESTING RECORD PROCEDURES:

For records covered by the Privacy Act or covered JRA records, see “Record Access Procedures” above.

NOTIFICATION PROCEDURES:

See “Record Access Procedures.”

EXEMPTIONS PROMULGATED FOR THE SYSTEM:

None.

HISTORY:

DHS/ALL-011 Department of Homeland Security Biographies and Awards, 73 FR 66654 (Nov. 10, 2008).

Philip S. Kaplan,
Chief Privacy Officer, Department of Homeland Security.

[FR Doc. 2018-06986 Filed 4-4-18; 8:45 am]

BILLING CODE 9110-9B-P